INTERNATIONAL BROADCASTING ADVISORY BOARD

Sunshine Act Meeting Notice

TIME AND DATE: April 16, 2024 9:00 a.m.-9:30 a.m. ET.

PLACE: On April 16, 2024 the Board will meet virtually.

STATUS: This meeting will be closed to the public.

MATTERS TO BE CONSIDERED: The International Broadcasting Advisory Board (Board) will conduct a meeting closed to the public at the time listed above. Board Members (Kenneth Jarin (Chair), Luis Botello, Jamie Fly, Jeffrey Gedmin, Michelle Giuda, Kathleen Matthews, and Under Secretary Elizabeth Allen (Secretary of State's Representative)), the acting Board Secretary, the Executive Secretariat to the Board, and recording secretaries will attend the closed meeting.

The acting Board Secretary (who also serves as U.S. Agency for Global Media's General Counsel) has certified that, in his opinion, exemptions set forth in the Government in the Sunshine Act, in particular 5 U.S.C. 552b(c)(2), (6) and (9)(B), permit closure of this meeting.

The Board approved the closing of this meeting by recorded vote.

The purpose for closing the meeting is so that the IBAB may deliberate on and, if necessary, vote on matters pursuant to its authority under 22 U.S.C. 6205 [relates to exemptions (2), (6), and (9)(B)].

In the event that the time, date, or location of this meeting changes, USAGM will post an announcement of the change, along with the new time, date, and/or place of the meeting on its website at https://www.usagm.gov.

Although a separate federal entity, USAGM prepared this notice and will continue to support the Board in accordance with 22 U.S.C. 6205(g).

CONTACT PERSON FOR MORE INFORMATION: Persons interested in obtaining more information should contact Oanh Tran at (202) 920-2583.

(Authority: 5 U.S.C. 552b, 22 U.S.C. 6205(e)(3)(C))

Dated: April 15, 2024.
Meredith L. Meads,
Executive Assistant.

[FR Doc. 2024-08380 Filed 4-16-24; 4:15 pm]

BILLING CODE 8610-01-P